DEPARTMENT OF AGRICULTURE

Forest Service

Roadless Area Conservation National Advisory Committee

Correction

In notice document E6-18983 appearing on page 65773 in the issue of November 9, 2006, make the following correction:

In the second column, in the first line, after “Committee”, insert “(Committee) will meet in Washington, DC. The purpose of this meeting is to review the”.

[FR Doc. Z6-18983 Filed 11-15-06; 8:45 am]

BILLING CODE 1505-01-D